DEPARTMENT OF JUSTICE

[OMB Number 1105-0008]

Agency Information Collection Activities; Proposed eCollection; eComments Requested; Revision of a Previously Approved Collection; Title: Immigrant and Employee Rights Section Charge Form

AGENCY: Civil Rights Division, Department of Justice.

ACTION: 60-Day notice.

SUMMARY: The Civil Rights Division, Department of Justice (DOJ), will be submitting the following information collection request to the Office of Management and Budget (OMB) for review and approval in accordance with the Paperwork Reduction Act of 1995.

DATES: Comments are encouraged and will be accepted for 60 days until April 24, 2026.

FOR FURTHER INFORMATION CONTACT: If you have additional comments, especially on the estimated public burden or associated response time, suggestions, or need a copy of the proposed information collection instrument with instructions or additional information, please contact Sara-Daisy Dygert, U.S. Department of Justice, 150 M Street, Washington, DC 20530 at email: sara-daisy.dygert@usdoj.gov or phone (202-532-5270).

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Immigrant and Employee Rights Section (IER) enforces the anti-discrimination provision (Sec. 274B) of the Immigration and Nationality Act (INA), 8 U.S.C. 1324b. The statute prohibits: (1) citizenship or immigration status discrimination in hiring, firing, or recruitment or referral for a fee, (2) national origin discrimination in hiring, firing, or recruitment or referral for a fee, (3) unfair documentary practices during the employment eligibility verification process (Form I-9 and E-Verify), and (4) retaliation or intimidation for asserting rights or privileges covered by the statute. IER, within the Department's Civil Rights Division, investigates and, where reasonable cause is found, litigates charges alleging discrimination. The public may submit charges of discrimination through IER's charge form. If the Department lacks jurisdiction over a particular charge but believes another agency has jurisdiction over the claim, IER may forward the charge to the applicable Federal, state or local agency for any action deemed appropriate. IER is updating the interface of its charge form so it is easier for the public to complete and is also more functional on mobile devices. There are no major substantive changes to the IER Charge Form as part of this process.

Overview of This Information Collection

1. Type of Information Collection: Revision of a previously approved collection.

2. The Title of the Form/Collection: IER Charge Form.

3. The agency form number, if any, and the applicable component of the Department sponsoring the collection: IER-1 DOJ Component: Civil Rights Division.

4. Affected public who will be asked or required to respond: General Public.

5. Obligation to Respond: Voluntary.

6. Total Estimated Number of Respondents: It is estimated that 918 individuals will complete an IER Charge Form annually; each response will be completed in approximately 30 minutes.

7. Estimated Time per Respondent: 30 minutes per IER Charge Form.

8. Frequency: Annually.

9. Total Estimated Annual Time Burden: 459 hours associated with individuals completing IER Charge Forms annually.

10. Total Estimated Annual Other Costs Burden: $0.

If additional information is required contact: Darwin Arceo, Department Clearance Officer, United States Department of Justice, Justice Management Division, Enterprise Portfolio Management, Two Constitution Square, 145 N Street NE, 4W-218, Washington, DC.

Dated: February 19, 2026.
Darwin Arceo,
Department Clearance Officer for PRA, U.S. Department of Justice.

[FR Doc. 2026-03580 Filed 2-20-26; 8:45 am]

BILLING CODE 4410-13-P